DEPARTMENT OF COMMERCE

Foreign-Trade Zones Board

[B-67-2019]

Foreign-Trade Zone (FTZ) 26—Atlanta, Georgia, Authorization of Production Activity, Kubota North America Corporation (Agricultural and Specialty Vehicles), Jefferson and Gainesville, Georgia

On October 18, 2019, Kubota North America Corporation submitted a notification of proposed production activity to the FTZ Board for its facilities within FTZ 26, in Jefferson and Gainesville, Georgia.

The notification was processed in accordance with the regulations of the FTZ Board (15 CFR part 400), including notice in the Federal Register inviting public comment (84 FR 57844-57845, October 29, 2019). On February 18, 2020, the applicant was notified of the FTZ Board's decision that no further review of the proposed activity is warranted at this time. The FTZ Board authorized the production activity described in the notification, subject to the FTZ Act and the Board's regulations, including Section 400.14. Bonnet bands must be admitted in privileged foreign status (19 CFR 146.41).

Dated: February 18, 2020.
Andrew McGilvray,
Executive Secretary.

[FR Doc. 2020-03813 Filed 2-25-20; 8:45 am]

BILLING CODE 3510-DS-P